DEPARTMENT OF TRANSPORTATION

Federal Aviation Administration

14 CFR Part 39

[Docket No. FAA-2021-0883; Project Identifier AD-2021-00307-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2020-16-01, which applies to all Airbus SAS Model A318, A319, A320, and A321 series airplanes. AD 2020-16-01 requires repetitive cleaning and greasing of affected cargo door seals (both original equipment manufacturer (OEM) and parts manufacturer approval (PMA) parts). Since the FAA issued AD 2020-16-01, the FAA determined that improved cargo door seals must be installed to address the unsafe condition, and that certain flight operations must be limited until the improved cargo door seals are installed. In addition, the FAA has issued a new AD to address the OEM parts. This proposed AD would limit the applicability to airplanes that have certain PMA parts installed. This proposed AD would retain certain actions required by AD 2020-16-01 and require replacing certain forward and aft cargo compartment door seals with new seals and installing a placard on the cargo compartment doors; and for certain airplanes, implementing an operational limitation for certain routes. The FAA is proposing this AD to address the unsafe condition on these products.

DATES: The FAA must receive comments on this proposed AD by December 6, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For Airbus service information identified in this NPRM, contact Airbus SAS, Airworthiness Office—EIAS, Rond-Point Emile Dewoitine No: 2, 31700 Blagnac Cedex, France; telephone +33 5 61 93 36 96; fax +33 5 61 93 44 51; email account.airworth-eas@airbus.com; internet https://www.airbus.com. For EASA material identified in this NPRM, contact EASA, Konrad-Adenauer-Ufer 3, 50668 Cologne, Germany; telephone +49 221 8999 000; email ADs@easa.europa.eu; internet www.easa.europa.eu. You may find this material on the EASA website at https://ad.easa.europa.eu. You may view this service information at the FAA, Airworthiness Products Section, Operational Safety Branch, 2200 South 216th St., Des Moines, WA. For information on the availability of this material at the FAA, call 206-231-3195.

Examining the AD Docket

You may examine the AD docket at https://www.regulations.gov by searching for and locating Docket No. FAA-2021-0883; or in person at Docket Operations between 9 a.m. and 5 p.m., Monday through Friday, except Federal holidays. The AD docket contains this NPRM, any comments received, and other information. The street address for Docket Operations is listed above.

FOR FURTHER INFORMATION CONTACT: John Marshall, Aerospace Engineer, Airframe Section, FAA, Atlanta ACO Branch, 1701 Columbia Avenue, College Park, GA 30337; phone: 404-474-5524; fax: 404-474-5606; email: John.R.Marshall@faa.gov.

SUPPLEMENTARY INFORMATION:

Comments Invited

The FAA invites you to send any written relevant data, views, or arguments about this proposal. Send your comments to an address listed under ADDRESSES. Include “Docket No. FAA-2021-0883; Project Identifier AD-2021-00307-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to John Marshall, Aerospace Engineer, Airframe Section, FAA, Atlanta ACO Branch, 1701 Columbia Avenue, College Park, GA 30337; phone: 404-474-5524; fax: 404-474-5606; email: John.R.Marshall@faa.gov. Any commentary that the FAA receives which is not specifically designated as CBI will be placed in the public docket for this rulemaking.

Background

The FAA issued AD 2020-16-01, Amendment 39-21185 (85 FR 47013, August 4, 2020) (AD 2020-16-01), for all Airbus SAS Model A318, A319, A320, and A321 series airplanes. AD 2020-16-01 was prompted by reports of low halon concentration in the forward and aft cargo compartments due to air leakage through cargo door seals. AD 2020-16-01 requires repetitive cleaning and greasing of forward and aft cargo door seals having part number (P/N) D5237106020000, D5237106020200, D5237106020400, D5237300120000, or D5237300120200 (OEM parts); bulk cargo door seals having P/N D5237200220000 or D5237200220200 (OEM parts); and forward and aft cargo door seals P/N D5237106020400S, approved under PMA PQ1715CE (PMA part). The agency issued AD 2020-16-01 to address low halon concentration, which, if not addressed, could affect the fire extinguishing system efficiency in the cargo compartments and possibly result in failure of the system to contain a cargo compartment fire.

The FAA has also issued AD 2021-18-04, Amendment 39-21705 (86 FR 51265, September 15, 2021) (AD 2021-18-04), which applies to all Airbus SAS Model A318, A319, A320, and A321 series airplanes and addresses the OEM parts. That AD requires repetitive cleaning and greasing of affected OEM cargo door seals; replacing certain forward, aft, and bulk cargo compartment door seals with new seals and installing a placard on the cargo compartment doors; and for certain airplanes, implementing an operational limitation for certain routes. Paragraph (h)(2) of AD 2021-18-04 explains conditions under which operators will no longer need to show compliance with certain requirements of AD 2020-16-01 for affected OEM parts. AD 2021-18-04 also states that the FAA is considering additional rulemaking to require replacement of PMA cargo door seals approved for the type design forward and aft cargo compartment door seal P/N D5237106020400, including but not limited to PMA P/N D5237106020400S.

The FAA has determined additional rulemaking is necessary to require replacement of PMA P/N D5237106020400S with improved cargo door seals and to limit certain flight operations until the improved cargo door seals are installed. This NPRM addresses the identified unsafe condition for PMA forward and aft cargo door seals approved for the type design forward and aft cargo compartment door seal P/N D5237106020400, including but not limited to PMA P/N D5237106020400S.

FAA's Determination

The FAA is issuing this NPRM after determining that the unsafe condition described previously is likely to exist or develop on other products of the same type design.

Related Service Information Under 1 CFR Part 51

The FAA reviewed Airbus Service Bulletin A320-52-1195, Revision 01, dated December 15, 2020, and Airbus Service Bulletin A320-52-1196, dated October 12, 2020. This service information specifies procedures for replacing the forward and aft cargo compartment door seals with new seals, among other actions, and installing a placard on the cargo compartment doors. These documents are distinct since they apply to different airplane models.

This proposed AD also requires European Union Aviation Safety Agency (EASA) AD 2021-0049, dated February 18, 2021, which the Director of the Federal Register approved for incorporation by reference as of October 20, 2021 (86 FR 51265, September 15, 2021).

This service information is reasonably available because the interested parties have access to it through their normal course of business or by the means identified in ADDRESSES.

Proposed AD Requirements in This NPRM

This proposed AD would continue to require repetitive cleaning and greasing, and would require replacing certain PMA forward and aft cargo compartment door seals with new seals and installing a placard on the cargo compartment doors; and for certain airplanes, implementing an operational limitation for certain routes.

Explanation of Service Information

Although the service information described previously specifies replacing OEM parts, PMA parts are similar in design to the OEM parts; therefore the service information may be used for airplanes on which the PMA parts are installed. However, if the service information cannot be used, operators may request an alternative method of compliance in accordance with the procedures specified in paragraph (m) of this AD.

Costs of Compliance

The FAA estimates that this AD, if adopted as proposed, would affect 1,768 airplanes of U.S. registry. The FAA estimates the following costs to comply with this proposed AD:

Estimated Costs
Action | Labor cost | Parts cost | Cost per product | Cost on U.S. operators
Cleaning and greasing (retained actions from AD 2020-16-01) | 1 work-hour × $85 per hour = $85, per cleaning/greasing cycle | $0 | $85, per cleaning/greasing cycle | $150,280, per cleaning/greasing cycle.
Cargo door seal replacement and placard installation (new proposed action) | 8 work-hours × $85 per hour = $680 | Up to $5,680 | Up to $6,360 | Up to $11,244,480.
Operational limitation implementation (e.g., revising the airplane flight manual) (new proposed action) | 1 work-hour × $85 per hour = $85 | $0 | $85 | Up to $150,280 (Group 3 airplanes only).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-16-01, Amendment 39-21185 (85 FR 47013, August 4, 2020), and

b. Adding the following new AD:

Airbus SAS: Docket No. FAA-2021-0883; Project Identifier AD-2021-00307-T.

(a) Comments Due Date

The FAA must receive comments on this airworthiness directive (AD) by December 6, 2021.

(b) Affected ADs

This AD replaces AD 2020-16-01, Amendment 39-21185 (85 FR 47013, August 4, 2020) (AD 2020-16-01).

(c) Applicability

This AD applies to the Airbus SAS airplanes identified in paragraphs (c)(1) through (4) of this AD, certificated in any category, equipped with any parts manufacturer approval (PMA) part approved for the type design forward and aft cargo compartment door seal part number (P/N) D5237106020400, including but not limited to PMA P/N D5237106020400S.

(1) Model A318-111, -112, -121, and -122 airplanes.

(2) Model A319-111, -112, -113, -114, -115, -131, -132, -133, -151N, -153N, and -171N airplanes.

(3) Model A320-211, -212, -214, -215, -216, -231, -232, -233, -251N, -252N, -253N, -271N, -272N, and -273N airplanes.

(4) Model A321-111, -112, -131, -211, -212, -213, -231, -232, -251N, -251NX, -252N, -252NX, -253N, -253NX, -271N, -271NX, -272N, and -272NX airplanes.

(d) Subject

Air Transport Association (ATA) of America Code 26, Fire protection; 52, Doors.

(e) Unsafe Condition

This AD was prompted by reports of low halon concentration in the forward and aft cargo compartments due to air leakage through cargo compartment door seals, and the certification of improved cargo compartment door seals. The FAA is issuing this AD to address low halon concentration. This condition, if not corrected, could affect the fire extinguishing system efficiency in the cargo compartments, possibly resulting in failure of the system to contain a cargo compartment fire.

(f) Compliance

Comply with this AD within the compliance times specified, unless already done.

(g) Definition

For the purposes of this AD, a “PMA part” is defined as any PMA part approved for the type design forward and aft cargo compartment door seal P/N D5237106020400, including but not limited to PMA P/N D5237106020400S.

(h) Retained Cleaning and Greasing, With Revised Compliance Language

This paragraph restates the requirements of paragraph (g) of AD 2020-16-01, with revised compliance language. Within 6 months after the airplane date of manufacture, or 3 months after August 19, 2020 (the effective date of AD 2020-16-01), whichever occurs later, and, thereafter, at intervals not exceeding 6 months, clean and grease each PMA part, in accordance with the instructions specified in paragraph (1) or (2) of European Union Aviation Safety Agency (EASA) AD 2021-0049, dated February 18, 2021. Accomplishing the actions required by paragraph (i) of this AD on an airplane terminates the actions required by this paragraph for that airplane only, and for the specific cargo door locations with PMA parts only.

(i) Modification

Within 96 months after the effective date of this AD, replace the seals of the PMA part with new seals and install a placard on the cargo compartment doors, in accordance with the method specified in paragraph (i)(1) or (2) of this AD. Accomplishing the actions required by this paragraph terminates the actions required by paragraph (h) of this AD for that airplane only, and for the specific cargo door locations where PMA parts were replaced only.

(1) Do the actions in accordance with the Accomplishment Instructions of Airbus Service Bulletin A320-52-1195, Revision 01, dated December 15, 2020, or Airbus Service Bulletin A320-52-1196, dated October 12, 2020, as applicable, except where the procedures refer to P/N D5237106020400, those procedures must be used for the PMA part.

(2) Do the actions in accordance with the procedures specified in paragraph (m)(1) of this AD.

(j) Operational Limitation

For Model A319 airplanes on which Airbus mod 26402, mod 34881 or mod 34882 has been embodied in production, or Airbus Service Bulletin A320-26-1066 or Airbus Service Bulletin A320-26-1076 has been embodied in service: As of 9 months after the effective date of this AD, or upon the accumulation of 1,600 flight hours by the airplane after the effective date of this AD, whichever occurs later, do not operate an airplane over a route having a point with a diversion time of more than 60 minutes, unless that airplane has been modified as required by paragraph (i) of this AD. Amending the existing aircraft flight manual (AFM) of the airplane by inserting a copy of this AD, and restricting operations to routes having diversion times of 60 minutes or less, is an acceptable method to comply with the operational limitation requirement for that airplane. After modification of an airplane as required by this paragraph (i) of this AD, this limitation is no longer required and can be removed from the AFM of that airplane.

(k) Credit for Previous Actions

(1) This paragraph provides credit for the actions specified in paragraph (h) of this AD, if those actions were performed before the effective date of this AD using Airbus Technical Adaption 80774334/003/2020, Issue 1, dated April 1, 2020.

(2) This paragraph provides credit for the actions specified in paragraph (h) of this AD, if those actions were performed before the effective date of this AD using EASA AD 2020-0133, dated June 10, 2020.

(3) This paragraph provides credit for the actions specified in paragraph (i) of this AD, if those actions were performed before the effective date of this AD using Airbus Service Bulletin A320-52-1195, dated October 12, 2020.

(l) Parts Installation Prohibition

Do not install a PMA part, or a door equipped with a PMA part, on any airplane, as required by paragraph (l)(1) or (2) of this AD, as applicable.

(1) For airplanes with a PMA part installed as of the effective date of this AD: After modification of the airplane as required by paragraph (i) of this AD.

(2) For airplanes that do not have a PMA part installed as of the effective date of this AD: As of the effective date of this AD.

(m) Alternative Methods of Compliance (AMOCs)

(1) The Manager, Atlanta ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in Related Information.

(2) Before using any approved AMOC, notify your appropriate principal inspector, or lacking a principal inspector, the manager of the responsible Flight Standards Office.

(3) Contacting the Manufacturer: For any requirement in this AD to obtain instructions from a manufacturer, the instructions must be accomplished using a method approved by the Manager, Atlanta ACO Branch, FAA.

(4) Required for compliance (RC): Except as specified by paragraph (m)(3) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) For more information about this AD, contact John Marshall, Aerospace Engineer, Airframe Section, FAA, Atlanta ACO Branch, 1701 Columbia Avenue, College Park, GA 30337; phone: 404-474-5524; fax: 404-474-5606; email: John.R.Marshall@faa.gov.

(2) For Airbus service information identified in this AD, contact Airbus SAS, Airworthiness Office—EIAS, Rond-Point Emile Dewoitine No: 2, 31700 Blagnac Cedex, France; telephone +33 5 61 93 36 96; fax +33 5 61 93 44 51; email account.airworth-eas@airbus.com; internet https://www.airbus.com. For EASA material identified in this AD, contact EASA, Konrad-Adenauer-Ufer 3, 50668 Cologne, Germany; telephone +49 221 8999 000; email ADs@easa.europa.eu; internet www.easa.europa.eu. You may find this material on the EASA website at https://ad.easa.europa.eu. You may view this referenced service information at the FAA, Airworthiness Products Section, Operational Safety Branch, 2200 South 216th St., Des Moines, WA. For information on the availability of this material at the FAA, call 206-231-3195.

Issued on October 14, 2021.
Lance T. Gant,
Director, Compliance & Airworthiness Division, Aircraft Certification Service.

[FR Doc. 2021-22785 Filed 10-21-21; 8:45 am]

BILLING CODE 4910-13-P